DEPARTMENT OF COMMERCE

International Trade Administration

[A-570-894]

Certain Tissue Paper Products From the People's Republic of China: Continuation of the Antidumping Duty Order

AGENCY: Enforcement and Compliance, International Trade Administration, Department of Commerce.

SUMMARY: As a result of the determinations by the Department of Commerce (the Department) and the International Trade Commission (ITC) in their five year (sunset) reviews that revocation of the antidumping duty (AD) order on certain tissue paper products (tissue paper) from the People's Republic of China (PRC) would likely lead to a continuation or recurrence of dumping and material injury to an industry in the United States, the Department is publishing a notice of continuation of the AD order on tissue paper from the PRC.

DATES: Effective July 12, 2016.

FOR FURTHER INFORMATION CONTACT: Brian Smith, AD/CVD Operations, Office II, Enforcement and Compliance, International Trade Administration, U.S. Department of Commerce, 14th Street and Constitution Avenue NW., Washington, DC 20230; telephone: (202) 482-1766.

SUPPLEMENTARY INFORMATION:

Background

On March 30, 2005, the Department published the AD order on tissue paper from the PRC.¹ On June 1, 2015, the Department initiated ² and the ITC instituted ³ a five-year (“sunset”) review of the AD order on tissue paper from the PRC, pursuant to section 751(c) of the Tariff Act of 1930, as amended (the Act). As a result of its review, the Department determined that revocation of the AD order on tissue paper from the PRC would likely lead to a continuation or recurrence of dumping, and notified the ITC of the magnitude of the margins of dumping likely to prevail were the order revoked.⁴

¹ See Notice of Amended Final Determination of Sales at Less Than Fair Value and Antidumping Duty Order: Certain Tissue Paper Products from the People's Republic of China, 70 FR 16223 (March 30, 2005).

² See Initiation of Five-Year (“Sunset”) Review, 80 FR 31012 (June 1, 2015).

³ See Certain Tissue Paper Products From China; Institution of Five-Year Review, 80 FR 31065 (June 1, 2015).

⁴ See Certain Tissue Paper Products from the People's Republic of China: Final Results of Expedited Sunset Review of the Antidumping Duty Order, 80 FR 59734 (October 2, 2015).

On July 5, 2016, the ITC published its determination, pursuant to sections 751(c) and 752(a) of the Act, that revocation of the AD order on tissue paper from the PRC would likely lead to a continuation or recurrence of material injury to an industry in the United States within a reasonably foreseeable time.⁵

⁵ See Certain Tissue Paper Products From China; Determination, 81 FR 43642 (July 5, 2016).

Scope of the Order

The tissue paper products covered by the order are cut-to-length sheets of tissue paper having a basis weight not exceeding 29 grams per square meter. Tissue paper products subject to this order may or may not be bleached, dye-colored, surface-colored, glazed, surface decorated or printed, sequined, crinkled, embossed, and/or die cut. The tissue paper subject to this order is in the form of cut-to-length sheets of tissue paper with a width equal to or greater than one-half (0.5) inch. Subject tissue paper may be flat or folded, and may be packaged by banding or wrapping with paper or film, by placing in plastic or film bags, and/or by placing in boxes for distribution and use by the ultimate consumer. Packages of tissue paper subject to this order may consist solely of tissue paper of one color and/or style, or may contain multiple colors and/or styles.

The merchandise subject to this order does not have specific classification numbers assigned to them under the Harmonized Tariff Schedule of the United States (HTSUS). Subject merchandise may be under one or more of several different subheadings, including: 4802.30, 4802.54, 4802.61, 4802.62, 4802.69, 4804.31.1000, 4804.31.2000, 4804.31.4020, 4804.31.4040, 4804.31.6000, 4804.39, 4805.91.1090, 4805.91.5000, 4805.91.7000, 4806.40, 4808.30, 4808.90, 4811.90, 4823.90, 4802.50.00, 4802.90.00, 4805.91.90, 9505.90.40. The tariff classifications are provided for convenience and customs purposes; however, the written description of the scope of this order is dispositive.

Excluded from the scope of this order are the following tissue paper products: (1) Tissue paper products that are coated in wax, paraffin, or polymers, of a kind used in floral and food service applications; (2) tissue paper products that have been perforated, embossed, or die-cut to the shape of a toilet seat, i.e., disposable sanitary covers for toilet seats; and (3) toilet or facial tissue stock, towel or napkin stock, paper of a kind used for household or sanitary purposes, cellulose wadding, and webs of cellulose fibers (HTSUS 4803.00.20.00 and 4803.00.40.00).

Continuation of the Order

As a result of the determinations by the Department and the ITC that revocation of the AD order on tissue paper from the PRC would likely lead to a continuation or recurrence of dumping, and of material injury to an industry in the United States, pursuant to section 751(d)(2) of the Act, the Department hereby orders the continuation of the AD order on tissue paper from the PRC. U.S. Customs and Border Protection will continue to collect AD cash deposits at the rates in effect at the time of entry for all imports of subject merchandise. The effective date of the continuation of the order will be the date of publication in the Federal Register of this notice of continuation. Pursuant to section 751(c)(2) of the Act, the Department intends to initiate the next five-year review of the order not later than 30 days prior to the fifth anniversary of the effective date of continuation.

Administrative Protective Order

This notice also serves as the only reminder to parties subject to administrative protective order (APO) of their responsibility concerning the return/destruction or conversion to judicial protective order of proprietary information disclosed under APO in accordance with 19 CFR 351.305(a)(3). Failure to comply is a violation of the APO which may be subject to sanctions.

This five-year (sunset) review and notice are in accordance with section 751(c) and published pursuant to 777(i) of the Act, and 19 CFR 351.218(f)(4).

Dated: July 5, 2016.
Ronald K. Lorentzen,
Acting Assistant Secretary for Enforcement and Compliance.

[FR Doc. 2016-16465 Filed 7-11-16; 8:45 am]

BILLING CODE 3510-DS-P